DEPARTMENT OF TRANSPORTATION

Pipeline and Hazardous Materials Safety Administration

Office of Hazardous Materials Safety; Notice of Applications for Modification of Special Permit

AGENCY: Pipeline and Hazardous Materials Safety Administration, DOT

ACTION: List of Applications for Modification of Special Permit.

SUMMARY: In accordance with the procedures governing the application for, and the processing of, special permits from the Department of Transportation's Hazardous Material Regulations (49 CFR part 107, subpart B) notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new applications for special permits to facilitate processing.

DATES: Comments must be received on or before April 2, 2007.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for modification of special permits is published in accordance with Part 107 of the Federal hazardous materials transportation law (49 U.S.C. 5117(b); 49 CFR 1.53(b)).

Issued in Washington, DC, on March 12, 2007.
Delmer F. Billings,
Director, Office of Hazardous Materials, Special Permits & Approvals.

Modification Special Permits
Application No. | Docket No. | Applicant | Regulation(s) affected | Nature of special permit thereof
7835-M |  | Air Products & Chemicals, Inc. Allentown, PA | 49 CFR 177.848(d) | To modify the special permit to authorize the use of an E track system as an approved method for securing cylinders transporting various hazardous materials.
7946-M |  | Imaging & Sensing Technology Horseheads, NY | 49 CFR 173.306(6)(4); 175.3; 173.302 | To modify the special permit to authorize the transportation in commerce of additional Division 2.2 materials in non-DOT specification steel or aluminum pressure vessels contained in a radiation detector.
8627-M |  | Nalco Energy Services, L.P. Naperville, IL | 49 CFR 173.201; 173.202; 173.203 | To modify the special permit to authorize the transportation of Division 6.1, PG III materials in non-DOT specification portable tanks manifolded together within a frame and securely mounted on a truck chassis.
10442-M |  | Pratt & Whitney Rocketdyne (PWR) (Former Grantee: United Technologies Corporation) San Jose, CA | 49 CFR 172.101; 173.65; 173.95; 173.154 | To modify the special permit to authorize the transportation in commerce of certain Division 1.1D and 1.3C waste materials in UN11G fiberboard boxes and UN11D plywood crates.
10631-M |  | Dept of the Army—Surface Deployment and Distr. Command Fort Eustis, VA | 49 CFR 173.243; 173.244 | To modify the special permit to authorize the additional shipping description and to update various paragraphs to coincide with the Hazardous Materials Regulations as currently written.
11156-M |  | Dyno Nobel, Inc. Salt Lake City, UT | 49 CFR 173.62; 173.212(b) | To modify the special permit to authorize cargo vessel as an authorized mode of transport.
11911-M | RSPA-97-2735 | Transfer Flow, Inc. Chico, CA | 49 CFR 178.700 thru 178.819 | To modify the special permit to allow an increase in the size of refueling tanks from 100 gallons to 300 gallons and to allow hoses to be attached to discharge outlets during transportation.
11993-M | RSPA-97-3100 | Key Safety Systems, Inc. (formerly BREED Tech.) Lakeland, FL | 49 CFR 173.301(a)(1); 173.302a | To modify the special permit to authorize a new design pressure vessel.
12005-M | RSPA-97-3233 | Pratt & Whitney Rocketdyne, Inc. Canoga Park, CA | 49 CFR 173.302 | To modify the special permit to authorize the transportation in commerce of a specially designed unit equipped with an unvented cylinder charged with xenon gas, Division 2.2, as part of a space station project.
12122-M | RSPA-98-4313 | ARC Automotive, Inc. Knoxville, TN | 49 CFR 173.301(h); 173.302; 173.306(d)(3) | To modify the special permit to allow machine welding as certified per CGA pamphlet C-3 requirements, and to grant relief from the marking requirements of CFR 178.65(i)(2)(viii) due to the limited size of the cylinders.
13548-M | RSPA-04-1745 | Wiley Rein & Fielding LLP Washington, DC | 49 CFR 172.301(c), 173.159 | To modify the special permit to authorize the transportation in commerce of dry lead acid batteries without marking each package with the special permit number.
14155-M | PHMSA-05-20606 | American Promotional Events, Inc. Florence, AL | 49 CFR 173.60; 178.516(b)(1) | To modify the special permit to authorize the transportation in commerce of certain fireworks in DOT specification single wall fiberboard boxes.
14382-M | PHMSA-06-25482 | BOC Gases Murray Hill, NJ | 49 CFR 173.163, 180.209 | To modify the special permit to specifically define the filling capacity of certain DOT Specification 3BN nickle cylinders containing either tungsten bexafluoride and hydrogen fluoride.
14396-M | PHMSA-06-25783 | Matheson Tri-Gas Parsippany, NJ | 49 CFR 173.192(a) | To reissue the special permit originally issued on an emergency basis for the transportation in commerce of certain Division 2.3 gases in certain DOT specification and non-DOT specification cylinders not normally authorized for cargo vessel transportation, for export only.
14415-M |  | Prometheus International, Inc. Commerce, CA | 49 CFR 173.21, 173.24, 173.27, 173.308, 175.5, 175.10, 175.30, 17.33 | To reissue the special permit originally issued on an emergency basis for the transportation in commerce of gas and liquid fueled Prometheus lighters in special travel containers in checked luggage in commercial passenger aircraft.

[FR Doc. 07-1272 Filed 3-15-07; 8:45 am]

BILLING CODE 4909-60-M